DEPARTMENT OF THE TREASURY

Internal Revenue Service

26 CFR Part 1

Income Taxes

CFR Correction

In Title 26 of the Code of Federal Regulations, Part 26, §§ 1.401 to 1.409, revised as of April 1, 2017, on page 235, in § 1.401(a)(9)-6, at the end of paragraph (d)(3)(i), insert the words “as of the date of purchase”.

[FR Doc. 2017-21742 Filed 10-5-17; 8:45 am]

BILLING CODE 1301-00-D